DEPARTMENT OF HEALTH AND HUMAN SERVICES

Health Resources and Services Administration

Agency Information Collection Activities: Submission to the Office of Management and Budget for Review and Approval; Public Comment Request; Pediatric Mental Health Care Access Program National Impact Study

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than May 24, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Pediatric Mental Health Care Access Program National Impact Study, OMB No. 0915-xxxx-[New]

Abstract: This notice describes an information collection request for one of HRSA's Maternal and Child Health Bureau programs, the Pediatric Mental Health Care Access (PMHCA) Program. The PMHCA Program aims to promote behavioral health integration into pediatric primary care by supporting the development of state, regional, and tribal pediatric mental health care teleconsultation access programs. The PMHCA Program supports pediatric health professionals (HPs) ¹ in their delivery of high-quality and timely screening, assessment, treatment, and referrals for children and adolescents with behavioral health conditions through the provision of teleconsultation, care coordination support/navigation (e.g., resource identification and referrals), and training and education. Additionally, the PMHCA Program focuses on achieving health equity related to racial, ethnic, and geographic disparities in access to care, especially in rural and other underserved areas.

¹ HPs may include but are not limited to pediatricians, family physicians, physician assistants, advanced practice nurses/nurse practitioners, licensed practical nurses, registered nurses, counselors, social workers, medical assistants, patient care navigators.

The information will be collected from participants in HRSA's Maternal and Child Health Bureau PMHCA award recipient programs that were funded in 2021, 2022, or 2023. The 2021 and 2022 PMHCA programs were authorized by 42 U.S.C 254c-19 (Title III, section 330M of the Public Health Service Act), using funding appropriated by Section 2712 of the American Rescue Plan Act of 2021 (Pub. L. 117-2), and the 2023 PMHCA programs were authorized by 42 U.S.C 254c-19 (section 330M of the Public Health Service Act), as amended by section 11005 of the Bipartisan Safer Communities Act (Pub. L. 117-159). To examine the impact of the PMHCA program on children and adolescents, this data collection will use two instruments: the HP Impact Survey and the Family/Caregiver Focus Group Discussion (FGD). Additionally, family members/caregivers identified by PMHCA programs to participate in the Family/Caregiver FGD will be asked demographic questions (Family/Caregiver Demographic Questionnaire) about themselves and their child/adolescent for the purpose of FGD sampling and to inform qualitative data analyses.

A 60-day notice published in the Federal Register on February 6, 2024, vol. 89, No. 25; pp. 8210-11. HRSA received two requests for additional information from the public, but no comments.

Need and Proposed Use of the Information: This information is needed by HRSA to examine PMHCA program impacts on children/adolescents and their families/caregivers to guide future program decisions. Specifically, data collected for the PMHCA Impact Study will be used to examine changes in children's and adolescents' and their families'/caregivers' access to behavioral health care (BHC); their subsequent receipt and utilization of BHC, including culturally and linguistically appropriate care; related behavioral health impacts; and monetary and societal cost-benefits. The study will examine changes over time regarding enrolled/participating HPs' practices with screening, diagnosing, treating, and referring children and adolescents with behavioral health conditions and assess their perceptions of the behavioral health impact of the PMHCA Program. Additionally, the study will deepen the understanding of families'/caregivers' experiences with BHC access, receipt, and utilization; satisfaction with BHC services; and the impact of behavioral health services on their children/adolescents.

Likely Respondents:

• HP Impact Survey: Pediatricians, family physicians, physician assistants, advanced practice nurses/nurse practitioners, licensed practical nurses, registered nurses, counselors, social workers, medical assistants.

• Family/Caregiver FGD: Family members and caregivers who have sought and/or received BHC for their child(ren)/adolescent(s).

• Family/Caregiver Demographic Questionnaire: Family members and caregivers who have sought and/or received BHC for their child(ren)/adolescent(s).

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
HP Impact Survey | 21,070 | 2 | 42,140 | 0.17 | 7,163.80
Family/Caregiver FGD | 42 | 1 | 42 | 1.00 | 42.00
Family/Caregiver Demographic Questionnaire | 270 | 1 | 270 | .08 | 21.60
Total | 21,382 |  | 42,452 |  | 7,227.40

Maria G. Button,
Director, Executive Secretariat.

[FR Doc. 2024-08692 Filed 4-23-24; 8:45 am]

BILLING CODE 4165-15-P